DEPARTMENT OF JUSTICE

Notice of Lodging of Consent Decree Under the Clean Air Act

Notice is hereby given that on July 7, 2010, a proposed Consent Decree in United States of America, et al. v. Wise Alloys, LLC, Civil Action No. CV-10-TMP-1811-NW, was lodged with the United States District Court for the Northern District of Alabama, Northwestern Division (“the Court”).

In this federal action, the United States sought civil penalties and injunctive relief against Wise Alloys, LLC (“Wise Alloys”), an aluminum scrap recycler, for civil penalties and injunctive relief resulting from violations of Section 112 of the Clean Air Act, 42 U.S.C. 7412, and implementing regulations establishing maximum achievable control technology emission standards for the secondary aluminum industry, 40 CFR 63 Subpart RRR (“the Secondary Aluminum MACT”). Wise Alloys owns and operates an aluminum recycling facility in Muscle Shoals, Alabama which contains two affected sources, the Alabama Reclamation Operations and the Alloys Cast House. The alleged violations include non-compliance with the testing, operational, monitoring, and record keeping requirements of the Secondary Aluminum MACT.

The Alabama Department of Environmental Management (“ADEM”) has filed a complaint in intervention against Wise Alloys, regarding similar claims under Alabama law, and has joined in the settlement set forth in the proposed Consent Decree.

The United States and ADEM have agreed to resolve their respective claims against Wise Alloys under the proposed Consent Decree wherein Wise Alloys has agreed to perform injunctive relief as set forth in the Decree (Section VI. Compliance Requirements). Wise Alloys has also agreed to pay, within thirty days of Consent Decree entry, a civil penalty of $133,5000 to the United States, and $133,500 to ADEM for a total civil penalty payment of $267,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, D.C. 20044-7611, and should refer to United States of America, et al. v. Wise Alloys, LLC, Civil Action No. CV-10-TMP-1811-NW, DOJ # 90-5-2-1-09058.

The Consent Decree may be examined at U.S. EPA Region 4, 61 Forsyth Street, SE., Atlanta, GA, 30303, ATTN: Ellen Rouch. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.75 (25 cents per page reproduction cost) payable to the U.S. Treasury or, if by e-mail or fax, forward a check in that amount to the Consent Decree Library at the stated address.

Maureen M. Katz,
Assistant Chief, Environmental Enforcement Section, Environment and Natural Resources Division.

[FR Doc. 2010-18066 Filed 7-21-10; 8:45 am]

BILLING CODE 4410-15-P